DEPARTMENT OF TRANSPORTATION

Federal Motor Carrier Safety Administration

[Docket No. FMCSA-2025-0327]

Medical Review Board; Membership

AGENCY: Federal Motor Carrier Safety Administration (FMCSA), U.S. Department of Transportation (Department or DOT).

ACTION: Notice; solicitation of nominations for membership.

SUMMARY: The Department solicits nominations for membership to serve on the Medical Review Board (MRB). MRB will provide scientific advice to the Secretary of Transportation (the Secretary) through the Administrator of FMCSA on medical issues, including the physical qualification requirements for commercial motor vehicle (CMV) operators.

DATES: The deadline for nominations for Committee members must be received on or before February 23, 2026.

ADDRESSES: All nomination materials should refer to the docket number above and be submitted by one of the following methods:

• Federal Rulemaking Portal: https://www.regulations.gov. Follow the online instructions for submitting comments.

• Mail: Dockets Operations, U.S. Department of Transportation, 1200 New Jersey Avenue SE, West Building, Ground Floor, Washington, DC 20590-0001.

• Hand Delivery: 1200 New Jersey Avenue SE, West Building, Ground Floor, Washington, DC, between 9 a.m. and 5 p.m. ET, Monday through Friday, except Federal holidays.

FOR FURTHER INFORMATION CONTACT: Larry W. Minor, Associate Administrator for Policy, larry.minor@dot.gov, (202) 366-4012.

SUPPLEMENTARY INFORMATION: MRB was established by the Secretary on September 20, 2005 in accordance with section 4116 of the Safe, Accountable, Flexible, Efficient Transportation Equity Act: A Legacy for Users, Public Law 109-59, 119 Stat. 1144, to provide FMCSA “with medical advice and recommendations on medical standards and guidelines for the physical qualifications of operators of commercial motor vehicles, medical examiner education, and medical research” (49 U.S.C. 31149(a)(1)). MRB operates in accordance with the Federal Advisory Committee Act, 5 U.S.C. ch. 10, and under the terms of the MRB charter, last renewed on December 18, 2025.

MRB is continuing, but subject to renewal of the charter every 2 years. MRB is expected to meet two times per year. Unless otherwise required by law or approved by the Secretary, all meetings will be held virtually.

In this notice, the Department is soliciting nominations for membership to MRB. MRB shall report to the Secretary through the Administrator of FMCSA and comprise no more than five members selected from medical institutions and private practice. The membership shall reflect expertise in a variety of medical specialties relevant to FMCSA's driver fitness requirements.

The Secretary will designate a chairman of MRB from among the members. Members must not be officers or employees of the Federal Government but will serve as “Special Government Employees” under the authority of 5 U.S.C. 3109, with pay for all time conducting work of MRB.

Members are appointed by the Secretary. Members will serve 2-year terms but may be reappointed. Past members of the advisory committee are welcome to apply. The Department is interested in ensuring membership is balanced fairly in terms of the points of view represented and the functions to be performed by the advisory committee.

Request for Nominations

Eligibility Requirements

FMCSA seeks physicians from many different medical specialties to develop science-based CMV physical qualification standards, medical advisory criteria, and safety policies. As members of MRB, physicians will provide expert guidance on medical guidelines and standards. The Agency is committed to appointing physicians with diverse professional backgrounds. To be eligible for appointment, physicians must have a current U.S. medical license and current board certification in a specialty area directly related to medical certification requirements and be able to participate in virtual meetings. Interested physicians should have a commitment to transportation safety and health, an understanding of research methods, knowledge of transportation medical issues, experience on panels that develop medical standards, and a record of collaboration and professional service.

Process and Deadline for Submitting Nominations

Qualified individuals can self-nominate or be nominated by any individual or organization. To be considered for MRB, nominators should submit the following information:

(1) Name, title, and relevant contact information (including phone, fax, and email address) of the individual requesting consideration;

(2) A letter of support from a company, union, trade association, academic, or nonprofit organization on letterhead containing a brief description why the nominee should be considered for membership;

(3) A short biography of the nominee, including professional and academic credentials;

(4) An affirmative statement that the nominee meets all MRB eligibility requirements.

Please do not send company, trade association, or organization brochures or any other information. Materials submitted should total two pages or less. Should more information be needed, DOT staff will contact the nominee, obtain information from the nominee's past affiliations, or obtain information from publicly available sources, such as the internet.

Nominations must be received on or before February 23, 2026. Nominees selected for appointment to the MRB will be notified by return email and by a letter of appointment.

Issued in Washington, DC.
Derek D. Barrs,
Administrator.

[FR Doc. 2026-01158 Filed 1-21-26; 8:45 am]

BILLING CODE 4910-EX-P